FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 21, 2014.

A. Federal Reserve Bank of Atlanta (Chapelle Davis, Assistant Vice President) 1000 Peachtree Street NE., Atlanta, Georgia 30309:

1. Lucie VanLandingham Beeley, Leesburg, Georgia; Stevan Reynolds Tuck, Dawson, Georgia; the Lucie VanLandingham Beeley GST Trust, Lucie Beeley trustee, and the Stevan Reynolds Tuck GST, Stevan Tuck trustee, to retain voting shares of Georgia Community Bancorp, Inc., Dawson, Georgia, and thereby indirectly retain voting shares of the Citizens State Bank of Taylor County, Reynolds, Georgia.

Board of Governors of the Federal Reserve System, July 1, 2014.
Michele Taylor Fennell,
Assistant Secretary of the Board.

[FR Doc. 2014-15747 Filed 7-3-14; 8:45 am]

BILLING CODE 6210-01-P